ENVIRONMENTAL PROTECTION AGENCY

[EPA-HQ-OECA-2012-0664; FRL-9999-05-OMS]

Information Collection Request Submitted to OMB for Review and Approval; Comment Request; NESHAP for Commercial Ethylene Oxide Sterilization and Fumigation Operations (Renewal)

AGENCY: Environmental Protection Agency (EPA).

ACTION: Notice.

SUMMARY: The Environmental Protection Agency (EPA) has submitted an information collection request (ICR), NESHAP for Commercial Ethylene Oxide Sterilization and Fumigation Operations (EPA ICR Number 1666.11, OMB Control Number 2060-0283), to the Office of Management and Budget (OMB) for review and approval in accordance with the Paperwork Reduction Act. This is a proposed extension of the ICR, which is currently approved through November 30, 2019. Public comments were previously requested, via the Federal Register, on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 28, 2019.

ADDRESSES: Submit your comments, referencing Docket ID Number EPA-HQ-OECA-2012-0664, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person, at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Commercial Ethylene Oxide Sterilization and Fumigation Operations apply to both new and existing commercial ethylene oxide (E.O.) sterilization and fumigation facilities using one ton of E.O. (as defined in 40 CFR 63.361) after December 6, 1994. New facilities include those that commenced construction or reconstruction after the date of proposal. Owners and operators of these facilities are required to comply with reporting and record keeping requirements for the General Provisions (40 CFR part 63, subpart A), as well as for the applicable standards in 40 CFR part 63, subpart O. This includes submitting notifications, performance test reports, and periodic reports, as well as maintaining records of continuous parameter monitoring data, any malfunctions, and equipment inspections. These reports are used by EPA to determine compliance with 40 CFR part 63, subpart O.

Form Numbers: None.

Respondents/affected entities: These standards apply to both new and existing commercial ethylene oxide (E.O.) sterilization and fumigation facilities using one ton of E.O. (as defined in 40 CFR 63.361) after December 6, 1994. New facilities include those that commenced construction or reconstruction after the date of proposal.

Respondent's obligation to respond: Mandatory (40 CFR part 63, subpart O).

Estimated number of respondents: 128 (total).

Frequency of response: Initially, semiannually.

Total estimated burden: 9,480 hours (per year). Burden is defined at 5 CFR 1320.3(b).

Total estimated cost: $1,800,000 (per year), which includes $698,000 in annualized capital/startup and/or operation & maintenance costs.

Changes in the Estimates: There is an adjustment increase in the burden in this ICR compared to the previous ICR. The increase is based on an increase in the number of sources subject to the NESHAP due to continued growth in the industry. The increase in the number of sources is also reflected in an increase in operation and maintenance costs.

Courtney Kerwin,
Director, Regulatory Support Division.

[FR Doc. 2019-20951 Filed 9-25-19; 8:45 am]

BILLING CODE 6560-50-P